DEPARTMENT OF ENERGY

Federal Energy Regulatory Commission

[Docket No. AC11-46-000]

Ameren Corporation; Notice of Filing

Take notice that on March 30, 2011, Ameren Corporation (Ameren) submitted final accounting entries in accordance with the Commission's June 17, 2010 order in Docket No. EC10-52-000 and Part 33 of the Commission's regulations (18 CFR part 33), regarding (1) the merger of Central Illinois Light Company and Illinois Power Company with and into Central Illinois Public Service Company to form Ameren Illinois Company, and (2) the distribution of AmerenEnergy Resources Generating stock to Ameren and the subsequent contribution by Ameren of AmerenEnergy Resources Generating stock to Ameren Energy Resources. Additionally, on May 17, 2011 and April 16, 2012, Ameren submitted additional information regarding Ameren Illinois Company's accounting and rate treatment of goodwill.

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: May 18, 2012.

Dated: April 18, 2012.
Kimberly D. Bose,
Secretary.

[FR Doc. 2012-9787 Filed 4-23-12; 8:45 am]

BILLING CODE 6717-01-P